FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on the proposed revised information collections. In accordance with the Paperwork Reduction Act of 1995 (44 U.S.C. 3506(c)(2)(A)), this notice seeks comments concerning temporary housing units, for disaster victims of federally declared disasters.

ADDRESSES: Interested persons should submit written comments to Muriel B. Anderson, Chief, Records Management Section, Program Services and Systems Branch, Facilities Management and Services Division, Administration and Resource Planning Directorate, Federal Emergency Management Agency, 500 C Street, SW, Room 316, Washington, DC 20472.

FOR FURTHER INFORMATION CONTACT: Contact David Porter, Program Specialist, Readiness, Response and Recovery Directorate, telephone number (202) 646-3883 for additional information. You may contact Ms. Anderson for copies of the proposed collection of information at telephone number (202) 646-2625 or facsimile number (202) 646-3347 or e-mail muriel.Anderson@fema.gov.

SUPPLEMENTARY INFORMATION: Public Law 93-288, as amended by Public Law 100-707, the Robert T. Stafford Disaster Relief and Emergency Assistance Act, Section 408, authorizes the Federal Emergency Management Agency (FEMA) to provide Temporary Housing Assistance. This type of assistance could be in the form of mobile homes, travel trailers, or other readily fabricated dwelling. This assistance is used when required to provide disaster housing for victims of federally declared disasters. Accordingly the FEMA Form 90-1, is designed to ensure sites for temporary housing units will accommodate the home and comply with local, State, and Federal regulations regarding the placement of the temporary housing unit; FEMA Form 90-31, ensures the landowner (if other than the recipient of the home) will allow the temporary housing unit to be placed on the property; and ensure that routes on ingress and egress to and from the property are maintained.

Collection of Information

Title: Request for Site Inspection; Landowner's Authorization/Ingress/Egress Agreement.

Type of Information Collection: Revision of a currently approved collection.

OMB Number: 3067-0222.

Form Numbers: Request for Site Inspection (FEMA Form 90-1) and Landowner's Authorization/Ingress-Egress Agreement (FEMA Form 90-31).

Abstract: FEMA's Temporary Housing Assistance is used to provide mobile homes, travel trailers, or other forms of readily prefabricated forms of housing for the purpose of providing temporary housing to eligible applicants or victims of federally declared disasters. This information is required to determine the feasibility of the site for installation of the housing unit and ensures written permission of the property owner is obtained to allow the housing unit on to the property to include ingress and egress permission.

Affected Public: Individuals or households.

Estimated Total Annual Burden Hours:

FEMA forms | Number of respondents (A) | Number of responses | Frequency of response (B) | Hours per response (C) | Annual burden hours (A×B×C)
90-1 | 1000 | 1000 | On Occasion | 10 minutes | 167
90-31 | 1000 | 1200 | On Occasion | 10 minutes | 200
Total | 1000 | 2200 |  |  | 367

Estimated Cost: The estimated cost to the Government for this information collection is approximately $6,500. There is no cost to the respondents.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

Dated: April 16, 2002.
Virginia Akers,
Acting Branch Chief, Program Services and Systems Branch, Facilities Management and Services Division, Administration and Resource Planning Directorate.

[FR Doc. 02-10217 Filed 4-24-02; 8:45 am]

BILLING CODE 6718-01-P